DEPARTMENT OF COMMERCE

National Oceanic and Atmospheric Administration

RIN 0648-XE689

Marine Mammals; File No. 18529

AGENCY: National Marine Fisheries Service (NMFS), National Oceanic and Atmospheric Administration (NOAA), Commerce.

ACTION: Notice; receipt of application.

SUMMARY: Notice is hereby given that Janice Straley, Ph.D., University of Alaska Southeast, 1332 Sward Ave., Sitka, AK 99835, has applied in due form for a permit to conduct research on 16 species of cetaceans.

DATES: Written, telefaxed, or email comments must be received on or before July 27, 2016.

ADDRESSES: The application and related documents are available for review by selecting “Records Open for Public Comment” from the “Features” box on the Applications and Permits for Protected Species (APPS) home page, https://apps.nmfs.noaa.gov, and then selecting File No. 18529 from the list of available applications.

These documents are also available upon written request or by appointment in the Permits and Conservation Division, Office of Protected Resources, NMFS, 1315 East-West Highway, Room 13705, Silver Spring, MD 20910; phone (301) 427-8401; fax (301) 713-0376.

Written comments on this application should be submitted to the Chief, Permits and Conservation Division, at the address listed above. Comments may also be submitted by facsimile to (301) 713-0376, or by email to NMFS.Pr1Comments@noaa.gov. Please include the File No. in the subject line of the email comment.

Those individuals requesting a public hearing should submit a written request to the Chief, Permits and Conservation Division at the address listed above. The request should set forth the specific reasons why a hearing on this application would be appropriate.

FOR FURTHER INFORMATION CONTACT: Carrie Hubard or Amy Sloan, (301) 427-8401.

SUPPLEMENTARY INFORMATION: The subject permit is requested under the authority of the Marine Mammal Protection Act of 1972, as amended (MMPA; 16 U.S.C. 1361 et seq.), the regulations governing the taking and importing of marine mammals (50 CFR part 216), the Endangered Species Act of 1973, as amended (ESA; 16 U.S.C. 1531 et seq.), and the regulations governing the taking, importing, and exporting of endangered and threatened species (50 CFR parts 222-226).

The applicant proposes to further the understanding of large whales in Alaskan waters by conducting vessel research, including photo-identification, behavioral observations, acoustic playbacks, biopsy sampling, suction cup and dart tagging, underwater photography/video, and prey-mapping sonar. Prey samples, blow, sloughed skin and feces would also be collected. Research would occur in all Alaskan waters, including southeastern Alaska, Glacier Bay National Park and Preserve, Prince William Sound, Gulf of Alaska, Bering Sea, Chukchi Sea, and Beaufort Sea. Specific goals are to: (1) Continue and expand a study of humpback whales (Megaptera novaeangliae); (2) study sperm whale (Physeter macrocephalus) movements, foraging behavior, and depredation on longline fishing gear; (3) study killer whale (Orcinus orca) seasonal movements, foraging, migration patterns and depredation; and (4) enhance the body of knowledge, stock structure, and current status of other cetacean species in the study area. In addition to the three focus species, six other large whale species and seven other small cetaceans would be targeted for research. The permit would be valid for five years.

In compliance with the National Environmental Policy Act of 1969 (42 U.S.C. 4321 et seq.), an initial determination has been made that the activity proposed is categorically excluded from the requirement to prepare an environmental assessment or environmental impact statement.

Concurrent with the publication of this notice in the Federal Register, NMFS is forwarding copies of the application to the Marine Mammal Commission and its Committee of Scientific Advisors.

Dated: June 21, 2016.
Julia Harrison,
Chief, Permits and Conservation Division, Office of Protected Resources, National Marine Fisheries Service.

[FR Doc. 2016-15095 Filed 6-24-16; 8:45 am]

BILLING CODE 3510-22-P